ENVIRONMENTAL PROTECTION AGENCY

40 CFR Part 704

[EPA-HQ-OPPT-2021-0357; FRL-8632-01-OCSPP]

RIN 2070-AK99

Asbestos; Reporting and Recordkeeping Requirements Under the Toxic Substances Control Act (TSCA)

Correction

In Rule document, 2023-14405, appearing on pages 47782 through 47806, in the issue of Tuesday, July 25, 2023, make the following correction:

§ 704.180 Asbestos [Corrected]

On page 47805, in the 3rd column, paragraph (h)(1)(ii)(B) should be corrected to read as follows:

“For chemical identities and bulk material forms required by §§ 704.180(e)(4)(iii)(A), (iv)(A), (iv)(B)(3), (v)(B)(1), (vi)(B)(1), and (vii)(B)(2);”

[FR Doc. C1-2023-14405 Filed 12-4-23; 8:45 am]

BILLING CODE 0099-10-P